DEPARTMENT OF THE INTERIOR

Fish and Wildlife Service

[FWS-R4-ES-2016-N037]; [40120-1112-0000-F2]

Draft Environmental Impact Statement; Eastern Collier Multi-Species Habitat Conservation Plan; Collier County, Florida

AGENCY: Fish and Wildlife Service, Interior.

ACTION: Notice of intent; announcement of public meeting.

SUMMARY: Under the National Environmental Policy Act (NEPA), we, the Fish and Wildlife Service (Service), advise the public that we intend to gather information necessary to prepare a draft environmental impact statement (dEIS) related to an anticipated permit application from nine Collier County, Florida, landowners (prospective applicants) for the incidental take of federally listed species. The permit application would include an Eastern Collier Multiple Species Habitat Conservation Plan (ECMSHCP) prepared in accordance with the Endangered Species Act of 1973, as amended (Act). We provide this notice to (1) describe the anticipated action; (2) advise other Federal and State agencies, affected Tribes, and the public of our intent to prepare a dEIS; (3) announce the initiation of a public scoping period; and (4) obtain suggestions and information on the scope of issues and alternatives to be included in the dEIS as well as any other written data, views, or arguments with respect to the anticipated permit application.

DATES: Comments: We must receive any written comments at our Field Office (see ADDRESSES) on or before April 25, 2016.

Public Meetings: One public scoping meeting will be held on April 12, 2016: From 5 to 7 p.m.

ADDRESSES: Public Meeting: University of Florida/Institute of Food and Agricultural Sciences Collier County Extension, 14700 Immokalee Road, Naples, Florida. Document Availability: Documents will be available for public inspection by appointment during normal business hours at the South Florida Ecological Services Office, 1339 20th Street, Vero Beach, FL 32960. Documents are also available at: www.easterncollierHCPEIS.com.

Comments: For how and where to submit comments, see Public Comments under SUPPLEMENTARY INFORMATION.

FOR FURTHER INFORMATION CONTACT: Kenneth McDonald, (Kenneth_mcdonald@fws.gov) Project Manager, at the South Florida Ecological Services Office (see ADDRESSES), telephone: 772/469-4284.

SUPPLEMENTARY INFORMATION: Under NEPA (42 U.S.C. 4321 et seq.), we announce our intention to gather information necessary to prepare a dEIS on the anticipated permit application under the Act (16 U.S.C. 1531 et seq.). The Department of the Army, through its bureau the U.S. Army Corps of Engineers, will be a cooperating agency in the development of the dEIS.

Background

Section 9 of the Act and the Service's implementing regulations in the Code of Federal Regulations (CFR) at 50 CFR Part 17 prohibit the “take” of federally listed “endangered” and “threatened” species (16 U.S.C. 1538). The Act defines the term “take” as to harass, harm, pursue, hunt, shoot, wound, kill, trap, capture, or collect listed species or to attempt to engage in such conduct (16 U.S.C. 1532). “Harm” includes an act that actually kills or injures a listed species and may include significant habitat modification or degradation that actually kills or injures a species by significantly impairing essential behavioral patterns, including breeding, feeding, and sheltering (50 CFR 17.3). Under section 10(a)(1)(B) (16 U.S.C. 1539) of the Act, the Service may issue permits authorizing “incidental take” of listed species. “Incidental take” is defined as take otherwise prohibited but incidental to, and not the purpose of, carrying out an otherwise lawful activity (50 CFR 17.3). Regulations governing incidental take permits for endangered species and threatened species, respectively, are found in 50 CFR 17.22 and 50 CFR 17.32.

Eastern Collier Multiple Species Habitat Conservation Plan (ECMSHCP)

The prospective applicants intend to seek an incidental take permit (ITP) that would authorize take resulting from the residential and commercial development and earth mining activities described in the ECMSHCP on certain lands (“covered lands”). The ECMSHCP would include measures to avoid, minimize, and mitigate for incidental take with an emphasis on preserving some of the lands to maintain the viability and continued existence of populations of federally- listed threatened and endangered species.

The ECMSHCP also would include a funding mechanism for the avoidance, minimization, and mitigation measures, such as land acquisition, habitat mitigation, establishment of wildlife crossings, ecological restoration, land management, and actions to assist in the conservation of species through research. The proposed term of the ITP would be 50 years.

The prospective applicants are expected to seek incidental take authorization for the following federally listed species: The Florida scrub-jay (Aphelocoma coerulescens), Audubon's crested caracara (Polyborus plancus) (alternatively identified as the northern crested caracara (Caracara cheriway)), wood stork (Mycteria americana), red-cockaded woodpecker (Picoides borealis), Everglade snail kite (Rostrhamus sociabilis plumbeus), eastern indigo snake (Drymarchon corais couperi), Florida bonneted bat (Eumops floridanus), and Florida panther (Puma concolor coryi) (“covered species”). The gopher tortoise (Gopherus polyphemus), which is a candidate species, would also be included as a covered species for which the prospective applicants would seek incidental take authorization. The prospective applicants' ECMSHCP would also cover the following State listed and unlisted species: The burrowing owl (Athene cunicularia), eastern diamondback rattlesnake (Crotalus adamanteus), Florida sandhill crane (Grus canadensis pratensis), little blue heron (Egretta caerulea), Southeastern American kestrel (Falco sparverius paulus), tricolored heron (Egretta tricolor), and the Big Cypress fox squirrel (Sciurus niger avicennia).

The covered lands of the ECMSHCP encompass approximately 152,124 acres in northeastern Collier County, Florida, that surround the town of Immokalee. The covered lands are bordered to the south by the Florida Panther National Wildlife Refuge and Big Cypress National Preserve, to the north and east by the Okaloacoochee Slough State Forest, and to the northwest by the Audubon Corkscrew Swamp Sanctuary. The prospective applicants are expected to propose a conservation strategy in the ECMSHCP that would preserve a large portion of the covered lands as habitat for the covered species while conducting activities on smaller, clustered portions of the covered lands.

Biologically, the ECMSHCP would focus on maintaining areas of high-value habitat for the covered species while engaging in residential and commercial development and earth mining on 45,000 acres of the lands. The prospective applicants also would maintain suitable habitat within the impacted areas to ensure the availability of corridors for dispersal of the covered species.

Draft Environmental Impact Statement

The dEIS will consider a range of alternatives, including the proposed action (i.e., the issuance of an ITP to the prospective applicants, no action (non-issuance of an ITP), variations in the scope and location of the covered activities or a combination of both. It will also provide a detailed description of the proposed action and alternatives, as well as identify and analyze the potential significance of direct and indirect impacts from the proposed action and alternatives to biological resources, land use, air quality, water quality, water resources, economics, and other environmental resources. We also will consider different strategies for avoiding, minimizing, and mitigating the impacts of incidental take from the proposed action. The primary purpose of the scoping process is to allow the public to identify important issues associated with the proposed action.

Public Comments

Outside of the public scoping meeting, we will accept comments in written form only. To assist us in identifying the full range of issues related to the prospective permit application, we invite written comments from interested parties. Any comments submitted to us after the public meeting must be in writing. Please reference the ECMSHCP in such comments.

Comments may be submitted by any one of the following methods:

U.S. mail: South Florida Ecological Services Office (see ADDRESSES).

Email: comments-eastcollierhcp@fws.gov. Please include your name and return mailing address in your email message. If you do not receive a confirmation from us that we received your email, contact us directly at either of the telephone numbers listed (see FOR FURTHER INFORMATION CONTACT).

Hand delivery: To the South Florida Ecological Services Office (ADDRESSES).

Availability of Public Comments

Before including your address, phone number, email address, or other personal identifying information in your comment, be aware that your entire comment—including your personal identifying information—may be made publicly available at any time. While you may ask us in your comment to withhold your personal identifying information from public review, there is no guarantee that we will be able to do so.

Reasonable Accommodation

Persons needing reasonable accommodations in order to attend and participate in the public meeting should contact Vickie Scott at 813/675-6546 by no later than one week before the public meeting. Information regarding this proposed action is available in alternative formats upon request.

Authority

We provide this notice under section 10 of the Act (16 U.S.C. 1531 et seq.) and NEPA regulations (40 CFR 1506.6).

Dated: March 2, 2016.
Mike Oetker,
Acting Regional Director, Southeast Region.

[FR Doc. 2016-06792 Filed 3-24-16; 8:45 am]

BILLING CODE 4333-15-P